DEPARTMENT OF EDUCATION

Meeting of the National Advisory Council on Indian Education

AGENCY: National Advisory Council on Indian Education (NACIE), U.S. Department of Education.

ACTION: Notice of meeting.

SUMMARY: This notice sets forth the schedule and proposed agenda of an upcoming meeting of the National Advisory Council on Indian Education (the Council) and is intended to notify the general public of their opportunity to attend. This notice also describes the functions of the Council. Notice of the Council's meetings is required under section 10(a)(2) of the Federal Advisory Committee Act and by the Council's charter.

Agenda: The purpose of the meeting will be to discuss the Presidential Executive Order 13336 on American Indian and Alaska Native Education and formalize committee assignments, including the selection of a chairman.

Date and Time: July 1, 2004—9 a.m. to 4 p.m. and July 2, 2004—9 a.m. to 12 Noon.

Location: The Department of Education, Room 1W103, 400 Maryland Avenue, SW., Washington, DC 20202.

FOR FURTHER INFORMATION CONTACT: Bernard Garcia, Group Leader, Office of Indian Education, U.S. Department of Education, 400 Maryland Avenue, SW., Washington, DC 20202. Telephone: 202-260-1454. Fax: 202-260-7779.

SUPPLEMENTARY INFORMATION: The Council advises the Secretary of Education concerning the funding and administration (including the development of regulations, and administrative policies and practices) of any program, including any program established under Title VII, Part A of the ESEA, with respect to which the Secretary has jurisdiction and that includes Indian children or adults as participants or that may benefit Indian children or adults; makes recommendations to the Secretary for filling the position of the Director of Indian Education whenever a vacancy occurs; and submits to the Congress, not later than June 30 of each year, a report on the activities of the Council, including any recommendations that the Council considers appropriate for the improvement of Federal education programs that include Indian children or adults as participants or that may benefit Indian children or adults, and recommendations concerning the funding of any such program.

The Executive Order 13336, dated April 30, 2004, purpose is to assist American Indian and Alaska Native students in meeting the challenging student academic standards of the No Child Left Behind Act of 2001 (Pub. L. 107-110) in a manner that is consistent with tribal traditions, languages, and cultures. The E.O. establishes an Interagency Working Group on American Indian and Alaska Native Education (Working Group) to oversee the implementation and the Working Group may consult with representatives of NACIE.

The general public is welcome to attend the July 1 and July 2, 2004, meeting. However, space is limited and is available on a first-come, first-serve basis. Individuals who need accommodations for a disability in order to attend the meeting (i.e. interpreting services, assistive listening devices, materials in alternative format) should notify Bernard Garcia, 202-260-1454 by June 24, 2004. We will attempt to meet requests after this date, but cannot guarantee availability of the requested accommodation. The meeting site is accessible to individuals with disabilities.

A summary of the activities of the meeting and other related materials that are informative to the public will be available to the public within 14 days after the meeting. Records are kept of all Council proceedings and are available for public inspection at the Office of Indian Education, United States Department of Education, Room 3W201, 400 Maryland Avenue, NW., Washington, DC 20202.

Rod Paige,
Secretary, U.S. Department of Education.

[FR Doc. 04-13741 Filed 6-17-04; 8:45 am]

BILLING CODE 4000-01-M